DEPARTMENT OF STATE

[Public Notice 4011]

Bureau of Political-Military Affairs; Rescission of Policy of Denial for China National Aero-Technology Import and Export Corporation (CATIC), China National Aero-Technology International Supply Company, CATIC (USA) Inc., Yan Liren and Hu Boru (Employees of CATIC), McDonnell Douglas Corporation, Douglas Aircraft Company and Robert Hitt (Employee of McDonnell Douglas Corporation and Douglas Aircraft Company); Continuation of Policy of Denial for Tal Industries Inc.

AGENCY: Department of State.

ACTION: Notice.

SUMMARY: Notice is hereby given that Public Notice 3195, establishing as a policy of the Department of State the denial of all export applications and other requests of approval pursuant to section 38 of the Arms Export Control Act (“AECA”) is partially rescinded. This rescission applies only to China National Aero-Technology Import and Export Corporation (CATIC), China National Aero-Technology International Supply Company, CATIC (USA) Inc., Yan Liren, Hu Boru, McDonnell Douglas Corporation, Douglas Aircraft Company and Robert Hitt. The Policy of Denial announced in Public Notice 3195 for Tal Industries, Inc. will continue to be in effect.

Public Notice 3195 stated that it would be the Department of State's policy to deny all export license applications and other requests for approval pursuant to section 38 of the AECA, for the export of, or the brokering activity involving the transfer of, defense articles or defense services by, for, or to the aforementioned persons and entities as well as any of their subsidiaries, affiliates, or successor entities.

EFFECTIVE DATE: The date of the dismissal of all charges: July 14, 2000 for Robert Hitt; May 15, 2001 for CATIC, CATIC (USA) Inc., Yan Liren, and Hu Boru; and November 14, 2001 for McDonnell Douglas and Douglas Aircraft.

FOR FURTHER INFORMATION CONTACT: David Trimble, Director, Compliance Division, Office of Defense Trade Controls, Bureau of Political-Military Affairs, Department of State (202) 633-2700.

SUPPLEMENTARY INFORMATION: Effective October 19, 2001 the Department of State, pursuant to sections 38 and 42 of the AECA, 22 U.S.C. 2778 and 2791, and 22 CFR 126.7(a)(2) and 126.7(a)(3) of the International Traffic in Arms Regulations (“ITAR”), instituted a policy of denial of all requests for licenses and other written approvals (including all activities under manufacturing license and technical assistance agreements and brokering activities) concerning exports of defense articles and provision of defense services or other transactions involving directly or indirectly CATIC, China National Aero-Technology International Supply Company, CATIC (USA) Inc., Tal Industries, Inc., Yan Liren, Hu Boru, McDonnell Douglas Corporation, Douglas Aircraft Company, and Robert Hitt and any of their affiliates, subsidiaries, or successor entities. Furthermore, the Department precluded the use of any exemptions from licenses or other approvals included in the ITAR except as those exemptions directly pertained to licenses or other written approvals granted prior to October 19, 1999.

This policy of denial was instituted in response to a sixteen-count indictment in the US District Court for the District of Columbia charging CATIC, CATIC (USA) Inc., TAL Industries, Inc., Yan Liren, Hu Boru, McDonnell Douglas Corporation, Douglas Aircraft Company, and Robert Hitt with violating, inter alias, the Export Administration Act of 1979 (EAA), 50 U.S.C. App. 2410 and the International Emergency Economic Powers Act (IEEPA), 50 U.S.C. 1701-1706.

With the exception of TAL Industries, all of the defendants have had their charges dismissed. The charges against Robert Hitt were dismissed on July 14, 2000. Subsequently, on May 15, 2001, the charges against CATIC, CATIC (USA) Inc., Yan Liren, and Hu Boru were dismissed. Finally, on November 14, 2001, the charges against McDonnell Douglas and Douglas Aircraft were dismissed. TAL Industries Inc., however, was convicted of violating the EAA and was sentenced on May 11, 2001 to five years of corporate probation, payment of a $1 million fine and payment of a special assessment of $200.

As a result, the Department of State has decided to rescind the policy of denial instituted against CATIC, CATIC (USA) Inc., Yan Liren, Hu Boru, and Robert Hitt and against McDonnell Douglas Corporation, Douglas Aircraft Company and any of their subsidiaries, affiliates or succesor entities. The policy of denial against TAL Industries, Inc., in accordance with section 38(g)(4) of the AECA, will continue to be in effect, due to its conviction for violating the EAA.

This action has been taken pursuant to sections 38 and 42 of the AECA, 22 USC 2778 and 22 USC 2791, and sections 126.7 and 127.11 of the ITAR, 22 CFR 126.7(a)(4) and 22 CFR 127.11.

Dated: March 7, 2002.
Lincoln P. Bloomfield, Jr.,
Assistant Secretary of State, Bureau of Political-Military Affairs, Department of State.

[FR Doc. 02-11273 Filed 5-6-02; 8:45 am]

BILLING CODE 4710-25-P